DEPARTMENT OF LABOR

Employment and Training Administration

[TA-W-83,266]

WW Metal Fab, a Subsidiary of WW Group, Inc., Including On-Site Leased Workers From Aerotek, Including Workers Whose Unemployment Insurance (UI) Wages Were Reported Under Xen 2, Inc., Milwaukie, Oregon; Amended Certification Regarding Eligibility To Apply for Worker Adjustment Assistance

In accordance with Section 223 of the Trade Act of 1974, as amended (“Act”), 19 U.S.C. 2273, the Department of Labor issued a Certification of Eligibility to Apply for Worker Adjustment Assistance on January 13, 2014, applicable to workers of WW Metal Fab, a subsidiary of WW Group, Inc., including on-site leased workers from Aerotek, Milwaukee, Oregon. The Department's notice of determination was published in the Federal Register on January 28, 2014 (79 FR 4503).

At the request of the State Workforce Office, the Department reviewed the certification for workers of the subject firm. The workers are engaged in activities related to the production of steel, aluminum and stainless fabrications.

New information shows that some workers separated from employment at WW Metal Fab had their wages reported through a separate unemployment insurance (UI) tax account under the name Xen 2, Inc., Tualatin, Oregon which was the subject firm's Professional Employer Organization (PEO). Moreover, it was revealed that the name of the city where WW Metal Fab is located should read as Milwaukie in lieu of Milwaukee.

The intent of the Department's certification is to include all workers of the subject firm who were adversely affected as the secondary components suppliers of steel, aluminum and stainless fabrications.

Accordingly, the Department is amending this certification to properly reflect this matter.

The amended notice applicable to TA-W-83,266 is hereby issued as follows:

All workers of WW Metal Fab, a subsidiary of WW Group, Inc., including on-site leased workers from Aerotek, Milwaukie, Oregon, including workers whose unemployment insurance (UI) wages are reported through Xen 2, Inc., Tualatin, Oregon who became totally or partially separated from employment on or after November 26, 2012, through January 13, 2016, and all workers in the group threatened with total or partial separation from employment on date of certification through two years from the date of certification, are eligible to apply for adjustment assistance under Chapter 2 of Title II of the Trade Act of 1974, as amended.

Signed in Washington, DC, this 26th day of February 2014.
Hope D. Kinglock,
Certifying Officer, Office of Trade Adjustment Assistance.

[FR Doc. 2014-05542 Filed 3-13-14; 8:45 am]

BILLING CODE 4510-FN-P